DEPARTMENT OF TRANSPORTATION

Federal Highway Administration

Environmental Impact Statement: Tolland County, CT

AGENCY: Federal Highway Administration (FHWA), Department of Transportation (DOT).

ACTION: Notice of intent.

SUMMARY: The FHWA is issuing this notice to advise the public that an environmental impact statement (EIS) will be prepared for the proposed 3,400-foot (1.0 km) extension of North Hillside Road from its current terminus northward to U.S. Route 44 in Tolland County, Connecticut.

FOR FURTHER INFORMATION CONTACT: Bradley D. Keazer, Division Administrator, Federal Highway Administration, 628-2 Hebron Avenue, Suite 303, Glastonbury, Connecticut 06033, telephone: (860) 659-6703, ext. 3009; or Richard A. Miller, Esq., Director of Environmental Policy, University of Connecticut, 31 LeDoyt Road U-3055, Storrs, Connecticut, 06269-3055, telephone: (860) 486-8741.

SUPPLEMENTARY INFORMATION: The FHWA, in cooperation with the University of Connecticut (UConn), will prepare an environmental impact statement (EIS) for the proposed extension off North Hillside Road from its current terminus northward to U.S. Route 44 in the town of Mansfield, Connecticut.

The proposed action will construct a road to provide an alternate entrance to the University and to relieve traffic on U.S. Route 44, Route 195, and Hunting Lodge Road. The new road is also intended to facilitate the development of UConn-related academic and research buildings, student housing, and recreational facilities on parcels of land adjacent to the Storrs campus, also known as the “North Campus.”

The extension of North Hillside Road is considered necessary to improve circulation within the campus, to reduce traffic on the local roadway network, and to facilitate development of the North Campus. Alternatives under consideration include, but are not limited to: (1) Taking no action; (2) alternative project locations, including off-site locations; and (3) various roadway alignments within the proposed project area.

Letters describing the proposed action and soliciting comments will be sent to appropriate Federal, State, and local agencies, and to private organizations and citizens who have previously expressed or are known to have an interest in this proposal. A public scoping meeting and a public hearing will be held. Public notice will be given of the time and place of the scoping meeting and public hearing. The draft EIS will be available for public and agency review and comment prior to the public hearing.

To ensure that the full range of issues related to this proposed action are addressed and all significant issues are identified, comments and suggestions are invited from all interested parties. Comments or questions concerning this proposed action and the EIS should be directed to either the FHWA or UConn at the addresses provided above.

(Catalog of Federal Domestic Assistance Program Number 20.205, Highway Planning and Construction. The regulations implementing Executive Order 12372 regarding intergovernmental consultation on Federal programs and activities apply to this program.)

Authority: 23 CFR part 771.

Issued on: April 13, 2006.
Bradley D. Keazer,
Division Administrator, Hartford, Connecticut.

[FR Doc. 06-3812 Filed 4-20-06; 8:45 am]

BILLING CODE 4910-22-M